DEPARTMENT OF ENERGY

Federal Energy Regulatory Commission

Combined Notice of Filings

Take notice that the Commission has received the following Natural Gas Pipeline Rate and Refund Report filings and Accounting Request filings:

Filings Instituting Proceedings

Docket Numbers: AC26-23-000.

Applicants: Entergy Louisiana, LLC.

Description: Entergy Louisiana, LLC submits proposed post-transaction accounting entries to clear Account 102 re sale of its gas distribution business to Delta Capital Gas Company, LLC.

Filed Date: 1/30/26.

Accession Number: 20260130-5418.

Comment Date: 5 p.m. ET 2/20/26.

Docket Numbers: PR26-33-000.

Applicants: Public Service Company of Colorado.

Description: 284.123(g) Rate Filing: Statement of Rates_01-01-2026 to be effective 1/1/2026.

Filed Date: 1/30/26.

Accession Number: 20260130-5444.

Comment Date: 5 p.m. ET 2/20/26.

284.123(g) Protest: 5 p.m. ET 3/31/26.

Docket Numbers: PR26-34-000.

Applicants: NorthWestern Corporation.

Description: 284.123 Rate Filing: Revised Transportation and Storage Rates (Annual Tax Tracker) to be effective 1/1/2026.

Filed Date: 2/2/26.

Accession Number: 20260202-5000.

Comment Date: 5 p.m. ET 2/23/26

Docket Numbers: RP26-441-000.

Applicants: Transcontinental Gas Pipe Line Company, LLC.

Description: 4(d) Rate Filing: Rate Schedule FDLS Rockaway Lateral Surcharge to be effective 3/1/2026.

Filed Date: 1/30/26.

Accession Number: 20260130-5209.

Comment Date: 5 p.m. ET 2/11/26.

Docket Numbers: RP26-442-000.

Applicants: ANR Pipeline Company.

Description: 4(d) Rate Filing: Neg Rate Agmts—Twin Eagle & Constellation Eff 2.1.26 to be effective 2/1/2026.

Filed Date: 1/30/26.

Accession Number: 20260130-5232.

Comment Date: 5 p.m. ET 2/11/26.

Docket Numbers: RP26-443-000.

Applicants: Northern Natural Gas Company.

Description: 4(d) Rate Filing: 20260130 Annual PRA to be effective 4/1/2026.

Filed Date: 1/30/26.

Accession Number: 20260130-5252.

Comment Date: 5 p.m. ET 2/11/26.

Docket Numbers: RP26-444-000.

Applicants: Northern Natural Gas Company.

Description: 4(d) Rate Filing: 20260130 Negotiated Rate Filing to be effective 2/1/2026.

Filed Date: 1/30/26.

Accession Number: 20260130-5264.

Comment Date: 5 p.m. ET 2/11/26.

Docket Numbers: RP26-445-000.

Applicants: Southern Star Central Gas Pipeline, Inc.

Description: 4(d) Rate Filing: Annual Modernization Capital Cost Recovery Mechanism—Eff. March 1, 2026 to be effective 3/1/2026.

Filed Date: 1/30/26.

Accession Number: 20260130-5269.

Comment Date: 5 p.m. ET 2/11/26.

Docket Numbers: RP26-446-000.

Applicants: El Paso Natural Gas Company, L.L.C.

Description: 4(d) Rate Filing: Negotiated Rate Agreements Update (Pioneer Feb-Mar 2026) to be effective 2/2/2026.

Filed Date: 1/30/26.

Accession Number: 20260130-5295.

Comment Date: 5 p.m. ET 2/11/26.

Docket Numbers: RP26-447-000.

Applicants: Iroquois Gas Transmission System, L.P.

Description: 4(d) Rate Filing: 1.30.26 Negotiated Rates—Mercuria Energy America, LLC H-7540-89 to be effective 1/30/2026.

Filed Date: 1/30/26.

Accession Number: 20260130-5297.

Comment Date: 5 p.m. ET 2/11/26.

Docket Numbers: RP26-448-000.

Applicants: Iroquois Gas Transmission System, L.P.

Description: 4(d) Rate Filing: 1.30.26 Negotiated Rates—Freepoint Commodities LLC H-7250-89 to be effective 1/30/2026.

Filed Date: 1/30/26.

Accession Number: 20260130-5300.

Comment Date: 5 p.m. ET 2/11/26.

Docket Numbers: RP26-449-000.

Applicants: Ruby Pipeline, L.L.C.

Description: 4(d) Rate Filing: RP 2026-01-30 FL&U and EPC Rate Adjustment to be effective 3/1/2026.

Filed Date: 1/30/26.

Accession Number: 20260130-5312.

Comment Date: 5 p.m. ET 2/11/26.

Docket Numbers: RP26-450-000.

Applicants: Viking Gas Transmission Company.

Description: 4(d) Rate Filing: Negotiated Rate PAL—Sequent Energy Management RLN-5009 to be effective 1/29/2026.

Filed Date: 1/30/26.

Accession Number: 20260130-5345.

Comment Date: 5 p.m. ET 2/11/26.

Docket Numbers: RP26-451-000.

Applicants: Northwest Pipeline LLC.

Description: 4(d) Rate Filing: Non Conforming Service Agreement—DRW Energy to be effective 3/1/2026.

Filed Date: 1/30/26.

Accession Number: 20260130-5392.

Comment Date: 5 p.m. ET 2/11/26.

Docket Numbers: RP26-452-000.

Applicants: North Baja Pipeline, LLC.

Description: 4(d) Rate Filing: Saavi Energy Solutions Capacity Release, Eff. 2/1/26 to be effective 2/1/2026.

Filed Date: 1/30/26.

Accession Number: 20260130-5445.

Comment Date: 5 p.m. ET 2/11/26.

Docket Numbers: RP26-453-000.

Applicants: Equitrans, L.P.

Description: 4(d) Rate Filing: Negotiated Rate Capacity Release Agreements—2/1/2026 to be effective 2/1/2026.

Filed Date: 2/2/26.

Accession Number: 20260202-5072.

Comment Date: 5 p.m. ET 2/17/26.

Docket Numbers: RP26-454-000.

Applicants: NEXUS Gas Transmission, LLC.

Description: 4(d) Rate Filing: Negotiated Rates—Various Releases eff 2-1-26 to be effective 2/1/2026.

Filed Date: 2/2/26.

Accession Number: 20260202-5075.

Comment Date: 5 p.m. ET 2/17/26.

Docket Numbers: RP26-455-000.

Applicants: Mountain Valley Pipeline, LLC.

Description: 4(d) Rate Filing: Negotiated Rate Capacity Release Agreements—2/1/2026 to be effective 2/1/2026.

Filed Date: 2/2/26.

Accession Number: 20260202-5078.

Comment Date: 5 p.m. ET 2/17/26.

Docket Numbers: RP26-456-000.

Applicants: Rover Pipeline LLC.

Description: 4(d) Rate Filing: Summary of Negotiated Rate Capacity Release Agreements 2-2-2026 to be effective 2/1/2026.

Filed Date: 2/2/26.

Accession Number: 20260202-5103.

Comment Date: 5 p.m. ET 2/17/26.

Docket Numbers: RP26-457-000.

Applicants: Algonquin Gas Transmission, LLC.

Description: 4(d) Rate Filing: Negotiated Rates—Various Releases eff 2-1-26 to be effective 2/1/2026.

Filed Date: 2/2/26.

Accession Number: 20260202-5113.

Comment Date: 5 p.m. ET 2/17/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 2, 2026.
Debbie-Anne A. Reese,
Secretary.

[FR Doc. 2026-02359 Filed 2-5-26; 8:45 am]

BILLING CODE 6717-01-P